DEPARTMENT OF COMMERCE

National Oceanic and Atmospheric Administration

RIN 0648-XF661

North Pacific Fishery Management Council; Notice of Public Meeting

AGENCY: National Marine Fisheries Service (NMFS), National Oceanic and Atmospheric Administration (NOAA), Commerce.

ACTION: Notice of public meetings of the North Pacific Fishery Management Council Ecosystem Committee.

SUMMARY: The North Pacific Fishery Management Council (Council) Ecosystem Committee will meet in Seatte, WA. The meeting will be available via web delivery and teleconference. Web URL and teleconference line will be provided on the meeting agenda.

DATES: The meeting will be held on September 22, 2017, from 9 a.m. to 5 p.m., Pacific Time (PST).

ADDRESSES: The meeting will be held at the Alaska Fisheries Science Center, 7600 Sand Point Way NE., Seattle, WA, USA.

Council address: North Pacific Fishery Management Council, 605 W. 4th Ave., Suite 306, Anchorage, AK 99501-2252.

FOR FURTHER INFORMATION CONTACT: Steve MacLean, Council staff, phone: (907) 271-2809.

SUPPLEMENTARY INFORMATION: The purpose of the Ecosystem Committee meeting is to review the draft Bering Sea Fishery Ecosystem Plan being developed by Council committee. Resources will be available on the Council's Ecosystem Committee Web page at https://www.npfmc.org/committees/ecosystem-committee/.

Special Accommodations

The meeting is physically accessible to people with disabilities. Requests for sign language interpretation or other auxiliary aids should be directed to Shannon Gleason at (907) 271-2809 at least 7 working days prior to the meeting date.

Dated: September 5, 2017.
Tracey L. Thompson,
Acting Deputy Director, Office of Sustainable Fisheries, National Marine Fisheries Service.

[FR Doc. 2017-19058 Filed 9-7-17; 8:45 am]

BILLING CODE 3510-22-P